DEPARTMENT OF AGRICULTURE

Food and Nutrition Service

National School Lunch, Special Milk, and School Breakfast Programs, National Average Payments/Maximum Reimbursement Rates

AGENCY: Food and Nutrition Service, USDA.

ACTION: Notice.

SUMMARY: This Notice supersedes the notice published in the August 7, 2019 issue of the Federal Register entitled National School Lunch, Special Milk, and School Breakfast Programs, National Average Payments/Maximum Reimbursement Rates (FR Doc. 84-38590). It establishes new reimbursement rates for Guam and Virgin Islands to match the reimbursement rate provided to Puerto Rico, and corrects an incorrect date. Similar to FR Doc. 84-38590, this Notice announces the annual adjustments to the national average payments, the amount of money the Federal Government provides States for lunches, afterschool snacks, and breakfasts served to children participating in the National School Lunch and School Breakfast Programs; to the maximum reimbursement rates, the maximum per lunch rate from Federal funds that a State can provide a school food authority for lunches served to children participating in the National School Lunch Program; and to the rate of reimbursement for a half-pint of milk served to non-needy children in a school or institution that participates in the Special Milk Program for Children. The annual payments and rates adjustments for the National School Lunch and School Breakfast Programs reflect changes in the Food Away From Home series of the Consumer Price Index for All Urban Consumers. As stated above, Food and Nutrition Service is establishing new reimbursement rates for Guam and the Virgin Islands: It has approved a 17-percent increase in school meal reimbursement rates for Guam and the Virgin Islands to reflect their higher cost of providing school meals. The rate adjustment will take effect beginning July 1, 2019, for school year 2019-2020. This increase is based on data indicating that the cost of producing school lunches, breakfasts, and snacks are higher than those in the continental United States, as well as other factors impacting both Guam and the Virgin Islands school meal programs. The annual rate adjustment for the Special Milk Program reflects changes in the Producer Price Index for Fluid Milk Products. The payments and rates are prescribed on an annual basis each July.

Overall, reimbursement rates this year for the National School Lunch, Breakfast Programs and the Special Milk Program either remained the same or increased compared to last year. Of note, the performance-based reimbursement for lunches certified as meeting the meal pattern increased from 6 cents to 7 cents.

DATES: These rates are effective from July 1, 2019 through June 30, 2020

FOR FURTHER INFORMATION CONTACT: Jessica Saracino, Branch Chief, Program Monitoring and Operational Support Division, Child Nutrition Programs, Food and Nutrition Service, U.S. Department of Agriculture, 3101 Park Center Drive, Room 640, Alexandria, VA 22302-1594.

SUPPLEMENTARY INFORMATION:

Background

Special Milk Program for Children—Pursuant to section 3 of the Child Nutrition Act of 1966, as amended (42 U.S.C. 1772), the Department announces the rate of reimbursement for a half-pint of milk served to non-needy children in a school or institution that participates in the Special Milk Program for Children. This rate is adjusted annually to reflect changes in the Producer Price Index for Fluid Milk Products, published by the Bureau of Labor Statistics of the Department of Labor.

National School Lunch and School Breakfast Programs—Pursuant to sections 11 and 17A of the Richard B. Russell National School Lunch Act, (42 U.S.C. 1759a and 1766a), and section 4 of the Child Nutrition Act of 1966 (42 U.S.C. 1773), the Department annually announces the adjustments to the National Average Payment Factors and to the maximum Federal reimbursement rates for lunches and afterschool snacks served to children participating in the National School Lunch Program and breakfasts served to children participating in the School Breakfast Program. Adjustments are prescribed each July 1, based on changes in the Food Away From Home series of the Consumer Price Index for All Urban Consumers, published by the Bureau of Labor Statistics of the Department of Labor.

Lunch Payment Levels—Section 4 of the Richard B. Russell National School Lunch Act (42 U.S.C. 1753) provides general cash for food assistance payments to States to assist schools in purchasing food. The Richard B. Russell National School Lunch Act provides two different section 4 payment levels for lunches served under the National School Lunch Program. The lower payment level applies to lunches served by school food authorities in which less than 60 percent of the lunches served in the school lunch program during the second preceding school year were served free or at a reduced price. The higher payment level applies to lunches served by school food authorities in which 60 percent or more of the lunches served during the second preceding school year were served free or at a reduced price.

To supplement these section 4 payments, section 11 of the Richard B. Russell National School Lunch Act (42 U.S.C. 1759(a)) provides special cash assistance payments to aid schools in providing free and reduced price lunches. The section 11 National Average Payment Factor for each reduced price lunch served is set at 40 cents less than the factor for each free lunch.

As authorized under sections 8 and 11 of the Richard B. Russell National School Lunch Act (42 U.S.C. 1757 and 1759a), maximum reimbursement rates for each type of lunch are prescribed by the Department in this Notice. These maximum rates are to ensure equitable disbursement of Federal funds to school food authorities.

Performanced-based Reimbursement—In addition to the funding mentioned above, school food authorized certified as meeting the meal pattern and nutrition standard requirements set forth in 7 CFR parts 210 and 220 are eligible to receive performance-based cash assistance for each reimbursable lunch served (an additional seven cents per lunch available beginning July 1, 2019, increased by inflation from six cents to seven cents, and will continue to be adjusted and rounded down to the nearest whole cent).

Afterschool Snack Payments in Afterschool Care Programs—Section 17A of the Richard B. Russell National School Lunch Act (42 U.S.C. 1766a) establishes National Average Payments for free, reduced price and paid afterschool snacks as part of the National School Lunch Program.

Breakfast Payment Factors—Section 4 of the Child Nutrition Act of 1966 (42 U.S.C. 1773) establishes National Average Payment Factors for free, reduced price, and paid breakfasts served under the School Breakfast Program and additional payments for free and reduced price breakfasts served in schools determined to be in “severe need” because they serve a high percentage of needy children.

Adjusted Payments

The following specific section 4, section 11, and section 17A National Average Payment Factors and maximum reimbursement rates for lunch, the afterschool snack rates, and the breakfast rates are in effect from July 1, 2019 through June 30, 2020. Due to a higher cost of living, the average payments and maximum reimbursements for Alaska, Guam, Hawaii, Puerto Rico, and the Virgin Islands are higher than those for all other States. The District of Columbia uses figures specified for the contiguous States. These rates do not include the value of USDA Foods or cash-in-lieu of USDA Foods which schools receive as additional assistance for each meal served to participants under the Program. A notice announcing the value of USDA Foods and cash-in-lieu of USDA Foods is published separately in the Federal Register.

Adjustments to the national average payment rates for all lunches served under the National School Lunch Program, breakfasts served under the School Breakfast Program, and afterschool snacks served under the National School Lunch Program are rounded down to the nearest whole cent.

Special Milk Program Payments

For the period July 1, 2019 through June 30, 2020, the rate of reimbursement for a half-pint of milk served to a non-needy child in a school or institution that participates in the Special Milk Program is 21.50 cents reflecting an increase of 1 cent from the School Year (SY) 2018-2019 level. This change is based on the 3.92 percent increase in the Producer Price Index for Fluid Milk Products from May 2018 to May 2019.

As a reminder, schools or institutions with pricing programs that elect to serve milk free to eligible children continue to receive the average cost of a half-pint of milk (the total cost of all milk purchased during the claim period divided by the total number of purchased half-pints) for each half-pint served to an eligible child.

National School Lunch Program Payments

Overall, payments for the National School Lunch Program and the Afterschool Snack Program either remained the same or increased from last years payments due to a 2.94 percent increase in the national average payment rates for schools and residential child care institutions for the period July 1, 2019 through June 30, 2020 in the Consumer Price Index for All Urban Consumers for the food away from home series during the 12-month period May 2018 to May 2019 (from a level of 275.307 in May 2018, as previously published in the Federal Register to 283.394 in May 2019).

These changes are reflected below.

Section 4 National Average Payment Factors—In school food authorities that served less than 60 percent free and reduced price lunches in School Year (SY) 2017-2018, the payments for meals served are: Contiguous States—paid rate—32 cents (1 cent increase from the SY 2018-2019 level), free and reduced price rate—32 cents (1 cent increase), maximum rate—40 cents (1 cent increase); Alaska—paid rate—53 cents (2 cents increase), free and reduced price rate—53 cents (2 cents increase), maximum rate—63 cents (2 cents increase); Guam, Hawaii, Puerto Rico, and the Virgin Islands—paid rate—38 cents (1 cent increase), free and reduced price rate—38 cents (1 cent increase), maximum rate—46 cents (1 cent increase).

In school food authorities that served 60 percent or more free and reduced price lunches in School Year 2017-2018, payments are: Contiguous States—paid rate—34 cents (1 cent increase from the SY 2018-2019 level), free and reduced price rate—34 cents (1 cent increase), maximum rate—40 cents (1 cent increase); Alaska—paid rate—55 cents (2 cents increase), free and reduced price rate—55 cents (2 cents increase), maximum rate—63 cents (2 cents increase); Guam, Hawaii, Puerto Rico and the Virgin Islands—paid rate—40 cents (1 cent increase), free and reduced price rate—40 cents (1 cent increase), maximum rate—46 cents (1 cent increase).

Beginning this year, School food authorities certified to receive the performance-based cash assistance will receive an additional 7 cents (adjusted annually) added to the above amounts as part of their section 4 payments.

Section 11 National Average Payment Factors—Contiguous States—free lunch—3 dollars and 9 cents (9 cents increase from the SY 2018-2019 level), reduced price lunch—2 dollars and 69 cents (9 cents increase); Alaska—free lunch—5 dollars and 1 cent (14 cents increase), reduced price lunch—4 dollars and 61 cents (14 cents increase); Guam, Hawaii, Puerto Rico and the Virgin Islands—free lunch—3 dollars and 62 cents (11 cents increase), reduced price lunch—3 dollars and 22 cents (11 cents increase).

Afterschool Snacks in Afterschool Care Programs—The payments are: Contiguous States—free snack—94 cents (3 cents increase from the SY 2018-2019 level), reduced price snack—47 cents (2 cents increase), paid snack—8 cents (no change); Alaska—free snack -1 dollar and 52 cents (4 cents increase), reduced price snack—76 cents (2 cents increase), paid snack—13 cents (no change); Guam, Hawaii, Puerto Rico and the Virgin Islands—free snack—1 dollar and 10 cents (4 cents increase), reduced price snack—55 cents (2 cent increase), paid snack—10 cents (1 cent increase).

School Breakfast Program Payments

Overall, payments for the National School Breakfast Program either remained the same or increased from last years payments due to a 2.94 percent increase in the national average payment rates for schools and residential child care institutions for the period July 1, 2019 through June 30, 2020 in the Consumer Price Index for All Urban Consumers in the Food Away from Home series during the 12-month period May 2018 to May 2019 (from a level of 275.307 in May 2018, as previously published in the Federal Register to 283.394 in May 2019).

These changes are reflected below.

For schools “not in severe need” the payments are: Contiguous States—free breakfast—1 dollar and 84 cents (5 cents increase from the SY 2018-2019 level), reduced price breakfast—1 dollar and 54 cents (5 cents increase), paid breakfast—31 cents (no change); Alaska—free breakfast—2 dollars and 95 cents (8 cents increase), reduced price breakfast—2 dollars and 65 cents (8 cents increase), paid breakfast—47 cents (1 cent increase); Guam, Hawaii, Puerto Rico and the Virgin Islands—free breakfast—2 dollars and 15 cents (6 cents increase), reduced price breakfast—1 dollar and 85 cents (6 cents increase), paid breakfast—36 cents (1 cent increase).

For schools in “severe need” the payments are: Contiguous States—free breakfast—2 dollars and 20 cents (6 cents increase from the SY 2018-2019 level), reduced price breakfast—1 dollar and 90 cents (6 cents increase), paid breakfast—31 cents (no change); Alaska—free breakfast—3 dollars and 53 cents (10 cents increase), reduced price breakfast—3 dollars and 23 cents (10 cents increase), paid breakfast—47 cents (1 cent increase); Guam, Hawaii, Puerto Rico and the Virgin Islands—free breakfast—2 dollars and 57 cents (7 cents increase), reduced price breakfast—2 dollars and 27 cents (7 cents increase), paid breakfast—36 cents (1 cent increase).

Payment Chart

The following chart illustrates the lunch National Average Payment Factors with the sections 4 and 11 already combined to indicate the per lunch amount; the maximum lunch reimbursement rates; the reimbursement rates for afterschool snacks served in afterschool care programs; the breakfast National Average Payment Factors including severe need schools; and the milk reimbursement rate. All amounts are expressed in dollars or fractions thereof. The payment factors and reimbursement rates used for the District of Columbia are those specified for the contiguous States.

BILLING CODE 3410-30-P

This action is not a rule as defined by the Regulatory Flexibility Act (5 U.S.C. 601-612) and thus is exempt from the provisions of that Act.

In accordance with the Paperwork Reduction Act of 1995 (44 U.S.C. 3507), no new recordkeeping or reporting requirements have been included that are subject to approval from the Office of Management and Budget.

This rule has been determined to be not significant and was reviewed by the Office of Management and Budget in conformance with Executive Order 12866. Pursuant to the Congressional Review Act (5 U.S.C. 801 et seq.), the Office of Information and Regulatory Affairs designated this rule as note a major rule, as defined by 5 U.S.C. 804(2).

National School Lunch, School Breakfast, and Special Milk Programs are listed in the Catalog of Federal Domestic Assistance under No. 10.555, No. 10.553, and No. 10.556, respectively, and are subject to the provisions of Executive Order 12372, which requires intergovernmental consultation with State and local officials. (See 2 CFR 415.3-415.6).

Authority: Sections 4, 8, 11, and 17A of the Richard B. Russell National School Lunch Act, as amended, (42 U.S.C. 1753, 1757, 1759a, 1766a) and sections 3 and 4(b) of the Child Nutrition Act, as amended, (42 U.S.C. 1772 and 42 U.S.C. 1773(b)).

Dated: September 10, 2019.
Pamilyn Miller,
Administrator, Food and Nutrition Service.

[FR Doc. 2019-23946 Filed 10-31-19; 8:45 am]

BILLING CODE 3410-30-C